COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products from the Procurement List that were previously furnished by the nonprofit agency employing persons who are blind or have other severe disabilities.

Comments Must Be Received on Or Before: 1/29/2015.

ADDRESSES: Committee for Purchase From People Who Are Blind or Severely Disabled, 1401 S. Clark Street, Suite 10800, Arlington, Virginia, 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

Products

Shirt, Flyers, Midweight, Fire Resistant, MPS, Navy, Men's, Black

NSN: 8415-00-NSH-0504—XSR

NSN: 8415-00-NSH-0505—SR

NSN: 8415-00-NSH-0506—MR

NSN: 8415-00-NSH-0507—LR

NSN: 8415-00-NSH-0508—XLR

NSN: 8415-00-NSH-0766—X Small Short

NSN: 8415-00-NSH-0767—X Small Long

NSN: 8415-00-NSH-0768—Small Short

NSN: 8415-00-NSH-0769—Small Long

NSN: 8415-00-NSH-0770—Medium Short

NSN: 8415-00-NSH-0771—Medium Long

NSN: 8415-00-NSH-0772—Large Short

NSN: 8415-00-NSH-0773—Large Long

NSN: 8415-00-NSH-0774—X Large Short

NSN: 8415-00-NSH-0775—X Large Long

Drawers, Flyers, Midweight, Fire Resistant, MPS, Navy, Men's, Long, Black

NSN: 8415-00-NSH-0509-, XSR

NSN: 8415-00-NSH-0510—SR

NSN: 8415-00-NSH-0511—MR

NSN: 8415-00-NSH-0512—LR

NSN: 8415-00-NSH-0513—XLR

NSN: 8415-00-NSH-0776—X Small Short

NSN: 8415-00-NSH-0777—X Small Long

NSN: 8415-00-NSH-0778—Small Short

NSN: 8415-00-NSH-0779—Small Long

NSN: 8415-00-NSH-0780—Medium Short

NSN: 8415-00-NSH-0781—Medium Long

NSN: 8415-00-NSH-0782—Large Short

NSN: 8415-00-NSH-0783—Large Long

NSN: 8415-00-NSH-0784—X Large Short

NSN: 8415-00-NSH-0785—X Large Long

Shirt, Flyers, Midweight, Fire Resistant, MPS, Navy, Women's, Black

NSN: 8415-00-NSH-0786—X Small Short

NSN: 8415-00-NSH-0787—X Small Regular

NSN: 8415-00-NSH-0788—X Small Long

NSN: 8415-00-NSH-0789—Small Short

NSN: 8415-00-NSH-0790—Small Regular

NSN: 8415-00-NSH-0791—Small Long

NSN: 8415-00-NSH-0792—Medium Short

NSN: 8415-00-NSH-0793—Medium Regular

NSN: 8415-00-NSH-0794—Medium Long

NSN: 8415-00-NSH-0795—Large Short

NSN: 8415-00-NSH-0796—Large Regular

NSN: 8415-00-NSH-0797—Large Long

NSN: 8415-00-NSH-0798—X Large Short

NSN: 8415-00-NSH-0799—X Large Regular

NSN: 8415-00-NSH-0800—X Large Long

Drawers, Power Stretch Underwear, MPS, Army, Women's, Sage Green

NSN: 8415-00-NSH-0801—X Small Short

NSN: 8415-00-NSH-0802—X Small Regular

NSN: 8415-00-NSH-0803—X Small Long

NSN: 8415-00-NSH-0804—Small Short

NSN: 8415-00-NSH-0805—Small Regular

NSN: 8415-00-NSH-0806—Small Long

NSN: 8415-00-NSH-0807—Medium Short

NSN: 8415-00-NSH-0808—Medium Regular

NSN: 8415-00-NSH-0809—Medium Long

NSN: 8415-00-NSH-0810—Large Short

NSN: 8415-00-NSH-0811—Large Regular

NSN: 8415-00-NSH-0812—Large Long

NSN: 8415-00-NSH-0813—X Large Short

NSN: 8415-00-NSH-0814—X Large Regular

NSN: 8415-00-NSH-0815—X Large Long

NPA: DEAUTHORIZE NPA

Contracting Activity: Dept of the Navy, U.S. Fleet Forces Command, Norfolk, VA

Shirt, Flyers, Midweight, Fire Resistant, MPS, Navy, Men's, Black

NSN: 8415-00-NSH-0504—XSR

NSN: 8415-00-NSH-0505—SR

NSN: 8415-00-NSH-0506—MR

NSN: 8415-00-NSH-0507—LR

NSN: 8415-00-NSH-0508—XLR

NSN: 8415-00-NSH-0766—X Small Short

NSN: 8415-00-NSH-0767—X Small Long

NSN: 8415-00-NSH-0768—Small Short

NSN: 8415-00-NSH-0769—Small Long

NSN: 8415-00-NSH-0770—Medium Short

NSN: 8415-00-NSH-0771—Medium Long

NSN: 8415-00-NSH-0772—Large Short

NSN: 8415-00-NSH-0773—Large Long

NSN: 8415-00-NSH-0774—X Large Short

NSN: 8415-00-NSH-0775—X Large Long

Drawers, Flyers, Midweight, Fire Resistant, MPS, Navy, Men's, Long, Black

NSN: 8415-00-NSH-0509—XSR

NSN: 8415-00-NSH-0510—SR

NSN: 8415-00-NSH-0511—MR

NSN: 8415-00-NSH-0512—LR

NSN: 8415-00-NSH-0513—XLR

NSN: 8415-00-NSH-0776—X Small Short

NSN: 8415-00-NSH-0777—X Small Long

NSN: 8415-00-NSH-0778—Small Short

NSN: 8415-00-NSH-0779—Small Long

NSN: 8415-00-NSH-0780—Medium Short

NSN: 8415-00-NSH-0781—Medium Long

NSN: 8415-00-NSH-0782—Large Short

NSN: 8415-00-NSH-0783—Large Long

NSN: 8415-00-NSH-0784—X Large Short

NSN: 8415-00-NSH-0785—X Large Long

Shirt, Flyers, Midweight, Fire Resistant, MPS, Navy, Women's, Black

NSN: 8415-00-NSH-0786—X Small Short

NSN: 8415-00-NSH-0787—X Small Regular

NSN: 8415-00-NSH-0788—X Small Long

NSN: 8415-00-NSH-0789—Small Short

NSN: 8415-00-NSH-0790—Small Regular

NSN: 8415-00-NSH-0791—Small Long

NSN: 8415-00-NSH-0792—Medium Short

NSN: 8415-00-NSH-0793—Medium Regular

NSN: 8415-00-NSH-0794—Medium Long

NSN: 8415-00-NSH-0795—Large Short

NSN: 8415-00-NSH-0796—Large Regular

NSN: 8415-00-NSH-0797—Large Long

NSN: 8415-00-NSH-0798—X Large Short

NSN: 8415-00-NSH-0799—X Large Regular

NSN: 8415-00-NSH-0800—X Large Long

Drawers, Power Stretch Underwear, MPS, Army, Women's, Sage Green

NSN: 8415-00-NSH-0801—X Small Short

NSN: 8415-00-NSH-0802—X Small Regular

NSN: 8415-00-NSH-0803—X Small Long

NSN: 8415-00-NSH-0804—Small Short

NSN: 8415-00-NSH-0805—Small Regular

NSN: 8415-00-NSH-0806—Small Long

NSN: 8415-00-NSH-0807—Medium Short

NSN: 8415-00-NSH-0808—Medium Regular

NSN: 8415-00-NSH-0809—Medium Long

NSN: 8415-00-NSH-0810—Large Short

NSN: 8415-00-NSH-0811—Large Regular

NSN: 8415-00-NSH-0812—Large Long

NSN: 8415-00-NSH-0813—X Large Short

NSN: 8415-00-NSH-0814—X Large Regular

NSN: 8415-00-NSH-0815—X Large Long

NPA: DEAUTHORIZE NPA

Contracting Activity: Dept of the Army, W40M Northern Region Contracting Office, Fort Belvoir, VA

Barry S. Lineback,
Director, Business Operations.

[FR Doc. 2014-30339 Filed 12-29-14; 8:45 am]

BILLING CODE 6353-01-P